DEPARTMENT OF EDUCATION

[CFDA No.: 84.021A]

Office of Postsecondary Education; Fulbright-Hays Group Projects Abroad Program; Notice Inviting Applications for New Awards for Fiscal Year (FY) 2003.

Purpose of Program: The Fulbright-Hays Group Projects Abroad Program supports overseas projects in training, research, and curriculum development in modern foreign languages and area studies for groups of teachers, students, and faculty engaged in a common endeavor. Projects may include short-term seminars, curriculum development or group research or study. This competition will not support advanced overseas intensive language projects.

Eligible Applicants: (1) Institutions of higher education, (2) State departments of education, (3) nonprofit private educational organizations, and (4) consortia of these entities.

Applications Available: September 27, 2002.

Deadline for Transmittal of Applications: October 28, 2002.

Deadline for Intergovernmental Review: December 27, 2002.

Estimated Available Funds: The Administration has requested $4,415,000 for this program for FY 2003. The actual level of funding, if any, depends on final congressional action. However, we are inviting applications to allow enough time to complete the grant process, if Congress appropriates funds for this program.

Estimated Range of Awards: $50,000-$70,000 per year.

Estimated Average Size of Awards: $68,000 per year.

Estimated Number of Awards: 43.

Note: The Department is not bound by any estimates in this notice.

Project Period: Up to 12 months.

Page Limit: The application narrative is where you, the applicant, address the selection criteria that reviewers use to evaluate your application. You must limit the narrative to the equivalent of no more than 35 pages, using the following standards:

• A “page” is 8.5″ x 11″, on one side only, with 1″ margins at the top, bottom, and both sides. i Double space (no more than three lines per vertical inch) all text in the application narrative, including titles, headings, footnotes, quotations, references, and captions. However, you may single space all text in charts, tables, figures and graphs.

• Use a font that is either 12-point or larger or no smaller than 10 pitch (characters per inch). However you may use a 10-point font in charts, tables, figures, and graphs.

The page limit does not apply to the cover sheet; the budget section, including the narrative budget justification; the assurances and certifications; the one-page abstract or the appendices. The complete response to the selection criterion must be included in the application narrative.

We will reject your application if—

• You apply these standards and exceed the page limit; or

• You apply other standards and exceed the equivalent of the page limit.

Applicable Regulations: (a) The Education Department General Administrative Regulations (EDGAR) in 34 CFR parts 74, 75, 77, 80, 81, 82, 85, 86, 97, 98, and 99; and (b) the regulations for this program in 34 CFR part 664.

Priorities

Absolute Priority: This competition focuses on projects designed to meet the priority in the regulations for this program (34 CFR 664.32(a)(2)).

Specific geographic regions of the world: A group project funded under this priority must focus on one or more of the following geographic regions of the world: Africa, East Asia, South Asia, Southeast Asia and the Pacific, the Western Hemisphere (Central and South America, Mexico, and the Caribbean), East Central Europe and Eurasia, and the Near East.

Under 34 CFR 75.105(c)(3) we consider only applications that meet the priority.

Competitive Priority: Within the absolute priority specified in this application notice we will focus on projects that meet the following competitive priority.

Short-term seminars that develop and improve foreign language and area studies at elementary and secondary schools. Under 34 CFR 75.105(c)(2)(i), 664.30(b), and 664.31(g) we award up to five (5) points to an application, depending upon how well the application meets the priority.

Invitational Priority: Within the absolute priority specified in this application notice, we are particularly interested in applications that meet the following invitational priority.

Group study projects that provide opportunities for nationally recruited undergraduate students to study in a foreign country for either a semester or a full academic year.

Under 34 CFR 75.105(c)(1) we do not give an application that meets the invitational priority a competitive or absolute preference over other applications.

For Applications and Further Information Contact: The applications for this program are available at: www.ed.gov/offices/HEP/iegps/. Lungching Chiao, U.S. Department of Education, International Education and Graduate Programs Service, 1990 K Street, NW, 6th Floor, Washington, DC 20006-8521. Telephone: (202) 502-7624 or via Internet: lungching.chiao@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 22 U.S.C. 2452.

Dated: September 16, 2002.
Sally L. Stroup,
Assistant Secretary, Office of Postsecondary Education.

[FR Doc. 02-23914 Filed 9-19-02; 8:45 am]

BILLING CODE 4000-01-P